DEPARTMENT OF TRANSPORTATION

Office of the Secretary

Aviation Proceedings; Weekly Receipts

Aviation Proceedings, Agreements filed the week ending June 11, 2004, but excluded in the report published at 69 FR 35122. The following Agreement was filed with the Department of Transportation under the provisions of 49 U.S.C. 412 and 414. Answers may be filed within 21 days after the filing of the application.

Docket Number: OST-2004-18116.

Date: Filed June 10, 2004.

Parties: Members of the International Air Transport Association.

Subject: 25th IATA CSC held in Singapore on 11 March, 2004, CSC/26Meet/005/2004 dated 10 June, 2004, Finally Adopted Resolutions 600b & 600b(II), Intended effective date: 15 July, 2004.

Andrea M. Jenkins,
Program Manager, Docket Operations, Federal Register Liaison.

[FR Doc. 04-15032 Filed 7-1-04; 8:45 am]

BILLING CODE 4910-62-P